DEPARTMENT OF EDUCATION

[Docket No. ED-2016-ICCD-0138]

Agency Information Collection Activities; Submission to the Office of Management and Budget for Review and Approval; Comment Request; International Early Learning Study (IELS) 2018 Field Test Recruitment

AGENCY: National Center for Education Statistics (NCES), Department of Education (ED).

ACTION: Notice.

SUMMARY: In accordance with the Paperwork Reduction Act of 1995 (44 U.S.C. chapter 3501 et seq.), ED is proposing a new information collection.

DATES: Interested persons are invited to submit comments on or before April 3, 2017.

ADDRESSES: To access and review all the documents related to the information collection listed in this notice, please use http://www.regulations.gov by searching the Docket ID number ED-2016-ICCD-0138. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 224-84, Washington, DC 20202-4537.

FOR FURTHER INFORMATION CONTACT: For specific questions related to collection activities, please contact NCES Information Collections at NCES.Information.Collections@ed.gov.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: International Early Learning Study (IELS) 2018 Field Test Recruitment.

OMB Control Number: 1850-NEW.

Type of Review: A new information collection.

Respondents/Affected Public: Individuals or Households.

Total Estimated Number of Annual Responses: 618.

Total Estimated Number of Annual Burden Hours: 234.

Abstract: The International Early Learning Study (IELS), scheduled to be conducted in 2018, is a new study sponsored by the Organization for Economic Cooperation and Development (OECD), an intergovernmental organization of industrialized countries. In the United States, the IELS is conducted by the National Center for Education Statistics (NCES). The IELS focuses on young children and their cognitive and non-cognitive skills and competencies as they transition to primary school. The IELS is designed to examine: children's early learning and development in a broad range of domains, including social emotional skills as well as cognitive skills; the relationship between children's early learning and children's participation in early childhood education and care (ECEC); the role of contextual factors, including children's individual characteristics and their home backgrounds and experiences, in promoting young children's growth and development; and how early learning varies across and within countries prior to beginning primary school. In 2018, in the participating countries, including the United States, the IELS will assess nationally-representative samples of children ages 5.0-5.5 years (in kindergarten in the United States) through direct and indirect measures, and will collect contextual data about their home learning environments, ECEC histories, and demographic characteristics. The IELS will measure young children's knowledge, skills, and competencies in both cognitive and non-cognitive domains, including language and literacy, mathematics and numeracy, executive function/self-regulation, and social emotional skills. This assessment will take place as children are transitioning to primary school and will provide data on how U.S. children entering kindergarten compare with their international peers on skills deemed important for later success. To prepare for the main study that will take place in September-November 2018, the IELS countries will conduct a field test in the fall of 2017 to evaluate newly developed assessment instruments and questionnaires and to test the study operations. The U.S. IELS field test data collection will occur from September to October, 2017. In order to meet the international data collection schedule for the fall 2017 field test, field test respondent recruiting activities must begin by May 2017. This request is to conduct recruitment activities for the 2017 IELS field test.

Dated: February 28, 2017.
Kate Mullan,
Acting Director, Information Collection Clearance Division, Office of the Chief Privacy Officer, Office of Management.

[FR Doc. 2017-04161 Filed 3-2-17; 8:45 am]

BILLING CODE 4000-01-P